DEPARTMENT OF EDUCATION

[CFDA No. 84.256]

Office of Elementary and Secondary Education; Territories and Freely Associated States Educational Grant (T&FASEG) Program; Notice Inviting Applications for New Awards

Purpose of Program: This program provides local educational agencies (LEAs) in the U.S. Territories (American Samoa (AS), the Commonwealth of the Northern Mariana Islands (CMNI), Guam (GU), and the Virgin Islands (VI)) and the Freely Associated States (the Federated States of Micronesia (FSM), the Republic of the Marshall Islands (RMI), and the Republic of Palau (RP)) with financial assistance to provide direct educational services to assist all students with meeting challenging State academic standards and to carry out activities described in the Elementary and Secondary Education Act as reauthorized by the No Child Left Behind Act of 2001 (NCLB), including teacher training, curriculum development, development or acquisition of instructional materials, and general school improvement and reform.

Deadline for Transmittal of Applications: December 9, 2002.

Deadline for Intergovernmental Review: January 7, 2003.

Applications Available: October 9, 2002.

Eligible Applicants: LEAs in AS, CNMI, GU, VI, FSM, RMI, and the RP.

Note: The Freely Associated States (FSM, RMI and RP) are eligible for these funds only until an agreement for the extension of U.S. educational assistance under new Compacts of Free Association for those States become effective.

Available Funds: $4,750,000.00.

Estimated Range of Awards: $250,000-800,000.

Estimated Average Size of Awards: $475,000.

Estimated Number of Awards: 10.

Note: The Department is not bound by any estimates in this notice.

Project Period: Up to 36 months.

Supplemental Information:

The T&FASEG program provides financial assistance to the Territories and Freely Associated States for programs that will enable students to make progress toward achieving high State academic standards and the high levels of educational achievement envisioned by the NCLB. The T&FASEG program is a supplemental resource to local school jurisdictions to help improve the quality of teaching and learning to ensure that no child is left behind. The grants may be used for educational purposes that are consistent with the purposes and programs authorized in the Elementary and Secondary Education Act (ESEA), as reauthorized by the NCLB.

Under the T&FASEG program, the Secretary awards grants for projects to'

(a) Conduct activities consistent with the purposes of the ESEA as reauthorized by the NCLB, including the types of activities authorized by ESEA—

(1) Title I—Improving The Academic Achievement of the Disadvantaged.

(2) Title II—Preparing, Training and Recruiting High Quality Teachers and Principals.

(3) Title III—Language Instruction for Limited English Proficient and Immigrant Students.

(4) Title IV—21st Century Schools.

(5) Title V—Promoting Informed Parental Choice and Innovative Programs.

(b) Provide direct educational services that assist all students with meeting challenging State content standards. For the purposes of this program, the term “direct educational services”—

(1) Means activities that are designed to improve student achievement or the quality of education; and

(2) Includes instructional services for students and teacher training.

Allowable Activities

The following illustrates some of the many types of activities that a grantee may conduct with funds under this program:

• Programs based on scientifically based research that are designed to strengthen the knowledge and skills of elementary and secondary students in primarily reading, language arts and mathematics, but may also include science, foreign languages, civics and government, economics, history, and geography.

• The establishment of professional development programs that provide pre-service and in-service training and give teachers, principals, and administrators the knowledge and skills to help students meet challenging State or local academic content standards and student academic achievement standards.

• Programs to recruit, train, and hire highly-qualified teachers.

• The planning, design, and operation of model, innovative schools and programs that—

(1) Are based on scientifically based research and methods of teaching and learning; and

(2) Are specially tailored to meet the educational needs of children in the area to be served.

• Programs for early language, literacy, and pre-reading development, particularly for students from low-income families.

• Programs for the development of curricula and instructional materials and the acquisition and use of instructional materials, including library and reference materials, academic assessments, reference materials, computer software and hardware for instructional use, and other curricular materials that are tied to high academic standards, that are used to improve student achievement, and that are a part of an overall education reform plan.

• Programs that involve families, communities, and businesses in the planning and operation of educational programs for their children.

• Programs to enhance student and parental choice among public schools, including charter schools.

Note: The full text of the NCLBA may be found on the Internet at: http://www.ed.gov/legislation/ESEA02/.

Applicable Regulations: The Education Department General Administrative Regulations (EDGAR) in 34 CFR parts 75, 77, 79, 80, 81, 82, 85, 86, 97, 98, and 99.

Selection Criteria: The Secretary will use the following selection criteria in accordance with 34 CFR 75.209-75.210 to evaluate applications under this competition. As provided for in the authorizing legislation, the Secretary, in making awards under this program, will take into consideration the recommendations of Pacific Resources for Education and Learning (PREL). PREL will use the following criteria in developing its recommendations, and the Secretary will use them in making final funding decisions.

(a) Need for Project. (25 points.)

(1) The Secretary considers the need for the proposed project.

(2) In determining the need for the proposed project, the Secretary considers the following factors:

(i) The magnitude or severity of the problem to be addressed by the proposed project.

(ii) The magnitude of the need for the services to be provided or the activities to be carried out by the proposed project.

(iii) The extent to which the proposed project will address the needs of disadvantaged and other students who are at risk of educational failure.

(b) Significance. (10 points.)

(1) The Secretary considers the significance of the proposed project.

(2) In determining the significance of the proposed project, the Secretary considers the following factors:

(i) The significance of the proposed project to education in the area to be served.

(ii) The significance of the problems or issues to be addressed by the proposed project.

(iii) The importance or magnitude of the results or outcomes likely to be attained by the proposed project, especially improvements in teaching and student achievement.

(c) Quality of the Project Design. (25 points.)

(1) The Secretary considers the quality of the design of the proposed project.

(2) In determining the quality of the design of the proposed project, the Secretary considers the following factors:

(i) The extent to which the goals, objectives, and outcomes to be achieved by the proposed project are clearly specified and measurable, and the extent to which they will be measured.

(ii) The extent to which the design of the proposed project is appropriate to, and will successfully address, the needs of the target population or other identified needs.

(iii) The extent to which the proposed project will be coordinated with similar or related efforts, and with other appropriate community, State, and Federal resources.

(iv) The extent to which the proposed project is part of a comprehensive effort to improve teaching and learning and support rigorous academic standards for students.

(v) The extent to which the proposed project encourages parental involvement.

(vi) The extent to which performance feedback and continuous improvement are integral to the design of the proposed project.

(d) Adequacy of Resources. (5 points.)

(1) The Secretary considers the adequacy of resources for the proposed project.

(2) In determining the adequacy of resources for the proposed project, the Secretary considers the following factors:

(i) The extent to which the budget is adequate to support the proposed project.

(ii) The extent to which the costs are reasonable in relation to the objectives, design, and potential significance of the proposed project.

(iii) The extent to which the costs are reasonable in relation to the number of persons to be served and to the anticipated results and benefits.

(e) Quality of project personnel. (10 points.)

(1) The Secretary considers the quality of the project personnel who will carry out the proposed project.

(2) In determining the quality of the personnel, the Secretary considers the extent to which the applicant encourages applications for employment from persons who are members of groups that have traditionally been underrepresented based on race, color, national origin, gender, age, or disability.

(3) In addition, the Secretary considers the following factors:

(i) The qualifications, including relevant training and experience, of the project director.

(ii) The qualifications, including relevant training and experience, of key project personnel.

(iii) The qualifications, including relevant training and experience, of project consultants or subcontractors.

(f) Quality of the project evaluation. (15 points.)

(1) The Secretary considers the quality of the evaluation to be conducted of the proposed project.

(2) In determining the quality of the evaluation, the Secretary considers the following factors:

(i) The extent to which the methods of evaluation provide a scientific basis for examining the effectiveness of project implementation strategies.

(ii) The extent to which the methods of evaluation include the use of objective performance measures that are clearly related to the intended outcomes of the project and will produce quantitative and qualitative data.

(g) Quality of project services. (10 points.)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project are appropriate to the needs of the intended recipients or beneficiaries of those services.

(ii) The likely impact of the services to be provided by the proposed project on the intended recipients of those services.

(iii) The extent to which the training or professional development services to be provided by the proposed project are of sufficient quality, intensity, and duration to lead to improvements in practice among the recipients of those services.

(iv) The extent to which the services to be provided by the proposed project are focused on individuals with greatest needs.

Waiver of Proposed Rulemaking: It is the Secretary's practice, in accordance with the Administrative Procedure Act (5 U.S.C. 553), to offer interested parties the opportunity to comment on proposed rules, competitive preferences and program definitions. Section 437 (d)(1) of the General Education Provisions Act (GEPA), however, allows the Secretary to exempt from rulemaking requirements rules governing the first grant competition under a new or substantially revised program authority (20 U.S.C. 1232(d)(1)). The Secretary, in accordance with section 437 (d)(1) of GEPA, has decided to forego public comment in order to ensure timely grant awards.

For Applications and Further information contact: Valerie Rogers, U. S. Department of Education, 400 Maryland Avenue, SW, Room 3E245, Washington, DC 20202-6140. Telephone (202) 260-2543.

If you use a telecommunications device for the deaf (TDD), you may call the Federal Information Relay Service (FIRS) at 1-888-877-8339.

Individuals with disabilities may obtain this document in an alternative format, (e.g., Braille, large print, audiotape, or computer diskette) on request to the contact person listed in this section.

Individuals with disabilities also may obtain a copy of the application package in alternative format, by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at the previous site. If you have questions about using, call the U.S. Government Printing Office (GPO), toll free at 1-888-293-6498; or in Washington, DC, area at (202) 512-1530.

Note: The official version of this document is the document published in the Federal Register. Free Internet access to the official edition of the Federal Register and the Code of Federal Regulations is available on GPO Access at: http://www.access.gpo.gov/nara/index.html.

Program Authority: 20 U.S.C. 6331.

Dated: October 4, 2002.
Susan B. Neuman,
Assistant Secretary for Elementary and Secondary Education.

[FR Doc. 02-25700 Filed 10-8-02; 8:45 am]

BILLING CODE 4000-01-P